ENVIRONMENTAL PROTECTION AGENCY

[FRL-9770-5]

Office of Environmental Information; Announcement of Availability and Comment Period for the Draft Quality Standard for Environmental Data Collection, Production, and Use by Non-EPA (External) Organizations and Two Associated QA Handbooks; Correction

AGENCY: Environmental Protection Agency (EPA).

ACTION: Notice of availability & request for comment; extension of comment period and correction.

SUMMARY: The Environmental Protection Agency published a document in the Federal Register of December 26, 2012, concerning request for comments for the Draft Quality Standard for Environmental Data Collection, Production, and Use by Non-EPA (External) Organizations and two associated QA Handbooks. The notice of availability is being extended to a 45 day review and comment period and the document contained incorrect Web site links in the footnotes.

DATES: Comments must be submitted on or before February 11, 2013.

FOR FURTHER INFORMATION CONTACT: John Warren, Environmental Protection Agency; 1200 Pennsylvania Avenue, MC 2811R; Washington, DC 20460; Phone: 202-564-6876.

Correction

In the Federal Register of December 26, 2012 in FRL 9764-3, page 76035, second column correct line after SUMMARY to read:

“SUMMARY: Notice of availability for a 45 day review and comment period is hereby given for the draft Quality Standard for Environmental Data Collection, Production, and Use by Non-EPA (External) Organizations and two associated draft QA Handbooks; 1) draft Handbook for Preparing Quality Management Plans (QMPs) and 2) draft Handbook for Preparing Quality Assurance (QA) Project Plans (QAPPs).”

In the Federal Register of December 26, 2012 in FRL 9764-3, on page 76036, at the bottom of the first column; correct the Web site references for footnotes one and two to read:

¹ http://www.epa.gov/irmpoli8/policies/21050.pdf

² http://www.epa.gov/irmpoli8/policies/21060.pdf

Monica D. Jones,
Director, Quality Staff.

[FR Doc. 2013-00836 Filed 1-15-13; 8:45 am]

BILLING CODE 6560-50-P